DEPARTMENT OF DEFENSE

Department of the Army; Corps of Engineers

Availability of the Draft Environmental Impact Statement for the Title VI Land Transfer to the State of South Dakota

AGENCY: U.S. Army Corps of Engineers, DoD.

ACTION: Notice.

SUMMARY: In accordance with the National Environmental Policy Act and implementing regulations, an Environmental Impact Statement (EIS) has been prepared to evaluate the environmental impacts of a transfer of approximately 91,178 acres of recreation lands and other lands from the Army Corps of Engineers to the State of South Dakota. As a result of the legislation of the Water Resources Development Act (WRDA) Pub. L. 106-53, August 17, 1999, Cheyenne River Sioux Tribe, Lower Brule Sioux Tribe, and State of South Dakota Terrestrial Wildlife Habitat Restoration Act, as amended by Pub. L. 106-541, December 11, 2000, WRDA 2000, the Secretary of the Army is required to transfer certain lands and recreation areas at Lake Oahe, Lake Sharpe, Lewis & Clark Lake and Lake Francis Case in South Dakota to the Department of Game, Fish & Parks of the State of South Dakota (SDGFP) for fish and wildlife purposes, or recreation uses, in perpetuity.

FOR FURTHER INFORMATION CONTACT: Questions regarding the EIS can be addressed to Patsy Freeman, U.S. Army Corps of Engineers, 106 South 16th Street, Omaha, Nebraska 68102, telephone at (402) 221-3803, or E-Mail: patricia.l.freeman@usace.army.mil

SUPPLEMENTARY INFORMATION: The legislation requires the transfer in fee title of Corps of Engineers lands (outside the boundaries of Indian reservations) above the top of the exclusive flood pools at Oahe, Big Bend, Fort Randall and Gavins Point dam/reservoir projects in the State of South Dakota to the SDGFP. The technical amendments (P.L. 106-54) also require that with certain exceptions, the recreation areas on Corps lands at the 4 projects in South Dakota outside of reservation boundaries be transferred to the State no later than January 1, 2002. Of the 123 recreation areas around the four reservoirs within the state, 63 would transfer to the state, 9 would be leased in perpetuity to the state, and 51 are either on reservation lands or outside the state of South Dakota and therefore would not be affected by this action.

The purpose of and need for this proposed action is simply to comply with the Congressional mandate of transferring the lands to the SDGFP. Although NEPA documents normally assist the decision maker, this document is only prepared for the purpose of public disclosure of the environmental impacts of the land transfer, since there is no Federal decision to be made.

The State of South Dakota has provided to the Corps its plans for development and management at the recreation areas to be transferred. These plans have been used to evaluate potential environmental, cultural, and socioeconomic impacts that would be expected to occur as a result of the transfer. In addition, the legislation provides funds to the State and two Tribes for the implementation of plans for terrestrial wildlife habitat restoration. The Corps will consult with the State of South Dakota and affected Indian Tribes to develop annual budget to carry out this title. The State's plan includes habitat development on Oahe/Sharpe project lands, on Federal lands and on selected State lands. Total habitat development proposed is 25,620 acres.

Amendments contained in the WRDA 2000 also stated that within 10 years the Secretary shall clean up open dumps and hazardous waste sites located on lands transferred and leased, inventory and stabilize each cultural and historical site within transferred or leased lands, and establish a Cultural Resources Advisory Commission (CRAC) composed of 1 member each from the State of South Dakota, Cheyenne River Sioux Tribe, and the Lower Brule Sioux Tribe.

The no-action alternative traditionally describes what would happen if the proposed action were not to occur. Although the no-action alternative is not a reasonable alternative because Congress has mandated the transfer of these properties, it is being addressed in the EIS as required by CEQ regulations (40 CFR 1502.14) and to provide a baseline against which to measure the impacts of the State's proposed development on the lands to be transferred.

Public Meetings

Public meetings to obtain comments on the Draft EIS will be held August 13-August 23, 2001. Corps representatives will be available to answer questions at an informal “open house” beginning at 5 p.m. The formal meetings begin at 7 p.m. at the following locations:

• Monday, August 13, 2001; Best Western Kelly Inn, 1607 East Highway 50, Yankton, SD 57078.

• Tuesday, August 14, 2001; Lower Brule Convention Center, 321 Sitting Bull Street, Lower Brule, SD 57548.

• Wednesday, August 15, 2001; Crow Creek Reservation Com. Center, Fort Thompson, SD 57339.

• Thursday, August 16, 2001; National Guard Armory, 610 East Hwy 50, Wagner, SD 57380.

• Monday, August 20, 2001; Prairie Nights Casino, 7932 Highway 24, Fort Yates, ND.

• Tuesday, August 21, 2001; Wrangler Motor Inn, 800 West Grand Crossing, Mobridge, SD 57601.

• Wednesday, August 22, 2001; King's Inn, 220 South Pierre Street, Pierre, SD 57501.

• Thursday, August 23, 2001; Rushmore Plaza Holiday Inn, 505 North 5th Street, Rapid City, SD 57701.

Luz D. Ortiz,
Army Federal Register Liaison Officer.

[FR Doc. 01-18588 Filed 7-25-01; 8:45 am]

BILLING CODE 3710-62-M